INTERNATIONAL TRADE COMMISSION

[USITC SE-14-030]

Government in the Sunshine Act Meeting Notice; Rescheduling of Meeting

AGENCY HOLDING THE MEETING: United States International Trade Commission.

ORIGINAL DATE AND TIME: August 14, 2014 at 11:00 a.m.

NEW DATE AND TIME: August 22, 2014 at 11:00 a.m.

PLACE: Room 101, 500 E Street SW., Washington, DC 20436, Telephone: (202) 205-2000.

STATUS: Open to the public.

In accordance with 19 CFR 201.35(d)(1), the Commission hereby gives notice that the meeting of August 14, 2014 at 11:00 a.m. has been rescheduled for August 22, 2014 at 11:00 a.m.

In accordance with Commission policy, subject matter listed above, not disposed of at the scheduled meeting, may be carried over to the agenda of the following meeting. Earlier notification of this change was not possible.

By order of the Commission:
Issued: August 13, 2014.
William R. Bishop,
Supervisory Hearings and Information Officer.

[FR Doc. 2014-19543 Filed 8-13-14; 4:15 pm]

BILLING CODE 7020-02-P